DEPARTMENT OF THE INTERIOR

National Park Service

[NPS-WASO-NPS0039425; PPWOCRADN0-PCU00RP14.R50000]

Notice of Inventory Completion: David A. Fredrickson Archaeological Collections Facility at Sonoma State University, Rohnert Park, CA

AGENCY: National Park Service, Interior.

ACTION: Notice.

SUMMARY: In accordance with the Native American Graves Protection and Repatriation Act (NAGPRA), the Sonoma State University has completed an inventory of human remains and associated funerary objects and has determined that there is a cultural affiliation between the human remains and associated funerary objects and Indian Tribes or Native Hawaiian organizations in this notice.

DATES: Repatriation of the human remains and associated funerary objects in this notice may occur on or after April 16, 2025.

ADDRESSES: Doshia Dodd, Sonoma State University, 1801 East Cotati Avenue, Rohnert Park, CA 94928, telephone (530) 514-8472, email Doshia.dodd@sonoma.edu.

SUPPLEMENTARY INFORMATION: This notice is published as part of the National Park Service's administrative responsibilities under NAGPRA. The determinations in this notice are the sole responsibility of the Sonoma State University, and additional information on the determinations in this notice, including the results of consultation, can be found in its inventory or related records. The National Park Service is not responsible for the determinations in this notice.

Abstract of Information Available

Based on the information available, human remains representing, at least, one individual removed from CA-SOL-320 near Vacaville, California, have been reasonably identified. The lot of 617 associated funerary objects are flaked stone tools and debitage; groundstone tools; historic-period items; modified shell; shell beads; unmodified faunal bone and shell; shell beads and ornaments; charmstone; bone tools and ornaments. CA-SOL-320 was investigated through an archaeological survey, test excavation and construction monitoring by the Anthropological Studies Center for Schnieder Management Services, Inc. The work resulted in collections of cultural material curated at Sonoma State University under Accession numbers 87-01, and 88-02.

Based on the information available, human remains representing, at least, two individuals removed from CA-SOL-25 near Fairfield, California, have been reasonably identified. The lot of 100 associated funerary objects are flaked stone tools and debitage; botanical remains; and unmodified faunal bone. The collection, Accession number 95-34, was the result of test excavation units, trenching and monitoring of grading activities conducted by Far Western Archaeological Research Group, Inc. in 1995. The collection has been housed at Sonoma State University since 1995.

Based on the information available, human remains representing, at least, two individuals removed from CA-SOL-514 near Dixon, California, have been reasonably identified. The lot of 82 associated funerary objects are flaked stone tools and debitage; groundstone tools; and unmodified faunal bone. The collection, Accession number 2019-79, was the result of an unanticipated discovery during a construction project being overseen by ECORP Consulting Inc. in 2019. The collection was stored at the ECORP lab during the COVID-19 pandemic while the Sonoma State University Archaeological Collections Facility was closed, and the collection was transferred to Sonoma State University in 2021.

The lot of 9,886 associated funerary objects removed from CA-SOL-363 near Dixon in Solano County, California consist of flaked stone tools and debitage, groundstone, quartz crystal, shell beads, unmodified faunal bone and modified shell and faunal bone. The collection, Accession Number 93-07, has been housed at Sonoma State University since 1994.

The lot of nine associated funerary objects removed from CA-SOL-318 near Vacaville in Solano County, California consist of flaked stone tools and debitage. The collection, Accession Number 85-01, has been housed at Sonoma State University since 1985.

The lot of 234 associated funerary objects removed from CA-SOL-334 near Vacaville in Solano County, California consist of flaked stone tools and debitage; historic-period items; unmodified faunal bone. The collection, Accession number 2010-06, was the result of a survey and Extended Phase I testing conducted by Far Western Archaeological Research Group, Inc. in 2008. The cultural items have been housed at Sonoma State University since 2010.

The lot of 1,420 associated funerary objects removed from CA-SOL-451 near Vacaville in Solano County, California consist of botanical remains; historic-period items; unmodified faunal bone and shell. The collection, Accession number 2010-06, was the result of a data recovery excavation during construction monitoring conducted by Far Western Archaeological Research Group, Inc. in 2008. The cultural items have been housed at Sonoma State University since 2010.

The lot of five associated funerary objects removed from CA-SOL-359 in Solano County, California consists of flaked stone tools and debitage. The collection, Accession number 91-01, have been housed at Sonoma State University since 2010.

Based on records concerning the associated funerary objects and the institution in which they are housed, there is no evidence of the associated funerary objects being treated with hazardous substances.

Cultural Affiliation

Based on the information available and the results of consultation, cultural affiliation is reasonably identified by the geographical location or acquisition history of the human remains and associated funerary objects described in this notice.

Determinations

The Sonoma State University has determined that:

• The human remains described in this notice represent the physical remains of five individuals of Native American ancestry.

• The 12,353 objects described in this notice are reasonably believed to have been placed intentionally with or near individual human remains at the time of death or later as part of the death rite or ceremony.

• There is a connection between the human remains and associated funerary objects described in this notice and the Cachil DeHe Band of Wintun Indians of the Colusa Indian Community of the Colusa Rancheria, California; Kletsel Dehe Wintun Nation of the Cortina Rancheria (previously listed as Kletsel Dehe Band of Wintun Indians); and the Yocha Dehe Wintun Nation, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after April 16, 2025. If competing requests for repatriation are received, the Sonoma State University must determine the most appropriate requestor prior to repatriation. Requests for joint repatriation of the human remains and associated funerary objects are considered a single request and not competing requests. The Sonoma State University is responsible for sending a copy of this notice to the Indian Tribes and Native Hawaiian organizations identified in this notice.

Authority: Native American Graves Protection and Repatriation Act, 25 U.S.C. 3003, and the implementing regulations, 43 CFR 10.10.

Dated: January 29, 2025.
Melanie O'Brien,
Manager, National NAGPRA Program.

[FR Doc. 2025-04201 Filed 3-14-25; 8:45 am]

BILLING CODE 4312-52-P